DEPARTMENT OF COMMERCE

National Oceanic and Atmospheric Administration

50 CFR Part 679

[Docket No. 000211040-0040-01; I.D. 051100D]

Fisheries of the Exclusive Economic Zone Off Alaska; Halibut Bycatch Mortality Allowance in the Bering Sea and Aleutian Islands Management Area

AGENCY: National Marine Fisheries Service (NMFS), National Oceanic and Atmospheric Administration (NOAA), Commerce.

ACTION: Proposed reapportionment of Pacific halibut bycatch mortality allowance specified for the nontrawl fishery categories; request for comments.

SUMMARY: NMFS proposes the reapportionment of the 2000 halibut bycatch mortality allowance specified for the Pacific cod hook-and-line fishery category to the other nontrawl fishery category in the Bering Sea and Aleutian Islands management area (BSAI). This action is necessary to allow the harvest of species constrained by the other nontrawl halibut bycatch mortality allowance, in particular Greenland turbot, while not further restricting the hook-and-line Pacific cod fishery. This action is intended to promote the goals and objectives of the Fishery Management Plan for the Groundfish Fishery of the Bering Sea and Aleutians Islands Area (FMP).

DATES: Comments on this action must be received at the following address no later than 4:30 p.m., A.l.t., June 6, 2000.

ADDRESSES: Comments may be mailed to Sue Salveson, Assistant Regional Administrator, Sustainable Fisheries Division, Alaska Region, NMFS, P.O. Box 21668, Juneau, AK 99802-1668, Attn: Lori Gravel. Hand delivery or courier delivery of comments may be sent to the Federal Building, 709 West 9th Street, Room 453, Juneau, AK 99801. The final environmental assessment and final regulatory flexibility analysis prepared for the final 2000 total allowable catch specifications may be obtained from the same address.

FOR FURTHER INFORMATION CONTACT: Andrew Smoker, 907-586-7228.

SUPPLEMENTARY INFORMATION: NMFS manages the groundfish fishery in the BSAI exclusive economic zone according to the FMP prepared by the North Pacific Fishery Management Council under authority of the Magnuson-Stevens Fishery Conservation and Management Act. Regulations governing fishing by U.S. vessels in accordance with the FMP at subpart H of 50 CFR part 600 and 50 CFR part 679.

The BSAI halibut prohibited species catch (PSC) limit for nontrawl gear is an amount of halibut equivalent to 900 metric tons (mt) of halibut mortality (§ 679.21(e)(2)(i)). The Final 2000 Harvest Specifications of Groundfish for the BSAI established the apportionment of the nontrawl halibut PSC limit to bycatch allowances for the Pacific cod hook-and-line and other nontrawl fisheries was established as 748 mt and 84 mt respectively (65 FR 8282, February 18, 2000). As of April 22, 2000, 593 mt remain in the total 2000 halibut bycatch mortality allowance for the hook-and-line Pacific cod fishery. The other non-trawl fishery opened on May 1, 2000.

The hook-and-line fishery for Pacific cod will reopen on September 1, 2000, and is projected to take as much as 300 mt of halibut mortality for the remainder of 2000. The directed fishery for Greenland turbot, a constituent and primary fishery of the other nontrawl category, may require an estimated 150 mt of halibut mortality to fully harvest the remaining directed fishing allowance of Greenland turbot.

NMFS has determined that a reapportionment of 75 mt of halibut bycatch mortality allowance from the hook-and-line Pacific cod to the other nontrawl fishery category is necessary to promote achieving the optimum yield harvest of the BSAI nontrawl fisheries. This reapportionment is based on the best available scientific information pertaining to bycatch rates reported by NMFS-certified observers.

Therefore, in order to provide greater opportunity to harvest the BSAI Greenland turbot total allowable catch (TAC) while not jeopardizing the opportunity to harvest the amount of the Pacific cod TAC allocated to hook-and-line vessels, NMFS proposes to increase the halibut bycatch mortality allowance specified for the other nontrawl fishery category by 75 mt and reduce the halibut bycatch mortality allowance specified for the Pacific cod hook-and-line fishery by the same amount. The halibut bycatch mortality specifications for the 2000 BSAI nontrawl fisheries are listed in Table 7 of the final 2000 harvest specifications (65 FR 8282, February 18, 2000). To accommodate the proposed action, the 2000 BSAI final harvest specifications would be amended by adding the following Table 7A.

Table 7A.—2000 BSAI Prohibited Species Bycatch Allowances for the BSAI Non-trawl Fisheries
Non-trawl fisheries | Halibut mortality (mt) BSAI
Pacific cod—Total ¹ | 673.
Jan. 1-April 30 | 457.
May 1-Sept. 1 | 0.
Sept. 15-Dec. 31 | 216.
Other non-trawl—Total | 159.
May 1-Dec. 31 | 159.
Groundfish pot & jog | exempt .
Sablefish hook-and-line | exempt.
¹ Consistent with § 679.21(e)(5)(iv)(A), Any unused halibut PSC from the first trimester may be rolled over into the third trimester.

NMFS invites public comments on its proposal to reallocate the projected unused amount of halibut mortality from the hook-and-line Pacific cod fishery to the other nontrawl fishery category.

Classification

This action is authorized under 50 CFR 679.21(e)(4) and is exempt from OMB review under E.O. 12866.

NMFS prepared an environmental assessment (EA) and final regulatory flexibility assessment (FRFA) for the 2000 harvest specifications (See ADDRESSES). The proposed reapportionment of the BSAI nontrawl halibut PSC limit is intended to provide fuller opportunity to conduct the fishing activities considered in the EA/FRFA and is fully within the scope of these analyses.

Authority: 16 U.S.C. 773 et seq., 1801 et seq. and 3631 et seq.

Dated: May 17, 2000.
Bruce C. Morehead,
Acting Director, Office of Sustainable Fisheries, National Marine Fisheries Service.

[FR Doc. 00-12833 Filed 5-19-00; 8:45 am]

BILLING CODE 3510-22-P